NATIONAL ARCHIVES AND RECORDS ADMINISTRATION

Founding Fathers Advisory Committee (FFAC)

AGENCY: National Archives and Records Administration.

ACTION: Notice of meeting.

SUMMARY: In accordance with the Federal Advisory Committee Act, as amended (5 U.S.C. Appendix 2), and the Presidential Historical Records Preservation Act of 2008 (Pub. L. 110-404), the National Archives and Records Administration (NARA) announces the inaugural meeting of the Founding Fathers Advisory Committee. The Committee will advise the Archivist of the United States on the progress of the Founding Fathers editorial projects funded by the National Historical Publications and Records Commission (NHPRC), the grant making arm of the National Archives. The meeting will discuss the goals and purposes of the committee, how it will proceed with its work, and anticipated future accomplishments.

DATES: The meeting will be held on Monday, December 13, 2010 from 2 p.m. to 3:30 p.m.

ADDRESSES: National Archives and Records Administration, 700 Pennsylvania Avenue, NW., Archivist's Board Room, Room 119, Washington, DC 20408.

SUPPLEMENTARY INFORMATION: This meeting will be open to the public. However, due to space limitations and access procedures, the name, email address, and telephone number of individuals planning to attend must be submitted to the National Archives no later than Tuesday, December 7. NARA staff will provide additional instructions for gaining access to the location of the meeting. Please RSVP to: christine.dunham@nara.gov or (202) 357-5094.

FOR FURTHER INFORMATION CONTACT: Kathleen Williams, Executive Director of the NHPRC, National Archives Building, 700 Pennsylvania Avenue, NW., Room 106, Washington, DC 20408, telephone number: (202) 357-5010, or at kathleen.williams@nara.gov.

Dated: November 17, 2010.
Mary Ann Hadyka,
Committee Management Officer.

[FR Doc. 2010-29661 Filed 11-23-10; 8:45 am]

BILLING CODE 7515-01-P